DEPARTMENT OF ENERGY

Office of Energy Efficiency and Renewable Energy

Hydrogen Production Cost Independent Review

AGENCY: Office of Energy Efficiency and Renewable Energy, Department of Energy (DOE).

ACTION: Request for information and notice of independent review.

SUMMARY: The Department of Energy (DOE) today gives notice of a request for information and an independent progress assessment by the DOE Hydrogen Program in meeting research and development (R&D) cost goals for production of hydrogen using distributed natural gas reforming technology. A review panel is being assembled by the National Renewable Energy Laboratory (NREL) Hydrogen Program Systems Integrator to review the current state of distributed natural gas reforming technology and costs. Based on the findings of the panel, the Systems Integrator will submit a written report to DOE on or before April 1, 2006. Position papers regarding the cost of hydrogen production via distributed natural gas reforming will be accepted by the Systems Integrator for consideration by the review panel. In addition, the panel may hear presentations from submitters as part of the assessment.

DATES: Written position papers for consideration by the review panel regarding this topic must be received by February 1, 2006. The NREL Systems Integrator must receive requests to speak before the review panel no later than February 15, 2006. Attendees at the review panel will be limited to the presenter(s), the independent review panel, NREL Systems Integrator, and DOE representatives.

ADDRESSES: Written position papers regarding the topic and requests to speak before the review panel are welcomed. Please submit 2 hardcopies of the position paper to: NREL Systems Integrator, U.S. Department of Energy, National Renewable Energy Laboratory, 1617 Cole Boulevard, Mail Stop 1732, Golden, CO 80401-3393, Attn: Dale Gardner. Requests to present before the panel should be sent to Mr. Gardner via e-mail to dale_gardner@nrel.gov or Phone (303) 275-3020.

FOR FURTHER INFORMATION CONTACT:

Independent review panel and process questions—Mr. Dale Gardner, U.S. Department of Energy, National Renewable Energy Laboratory, 1617 Cole Boulevard, Mail Stop 1732, Golden, CO 80401-3393, Attn: Dale Gardner, Phone (303) 275-3020, e-mail dale_gardner@nrel.gov.

Distributed natural gas reforming technology questions—Mr. Pete Devlin, U.S. Department of Energy, Office of Energy Efficiency and Renewable Energy, Mail Station EE-2H, Attn: Pete Devlin, 1000 Independence Avenue, SW., Washington, DC 20585-0121, Phone: (202) 586-4905, e-mail peter.devlin@ee.doe.gov.

SUPPLEMENTARY INFORMATION: The mission of DOE's Hydrogen, Fuel Cells and Infrastructure Technologies Program is to research, develop and validate fuel cell and hydrogen production, delivery, and storage technologies such that hydrogen from diverse domestic resources will be used in a clean, safe, reliable and affordable manner in fuel cell vehicles; central station electric power production; distributed thermal electric; and combined heat and power applications. The President's Hydrogen Fuel Initiative accelerates research, development and demonstration of hydrogen production, delivery and storage technologies to support an industry commercialization decision on the hydrogen economy by 2015. The FreedomCAR and Fuel Partnership is working toward an industry commercialization decision on hydrogen fuel cell vehicles by 2015.

The transition to a hydrogen economy will take decades. During this transition, it is anticipated that a primary source of hydrogen for use in transportation by light duty fuel cell vehicles will be the distributed reforming of hydrogen from natural gas. This method is anticipated because (1) reforming is already a mature technology for some applications, (2) it conceivably can be cost competitive with other fuels and technologies in the transition timeframe, (3) the natural gas feedstock is accessable and dispersed, and (4) distributed production avoids a large scale hydrogen delivery/distribution infrastructures during the transition period. The following table shows the DOE cost goal status and targets over time for this production method. As calendar year 2005 comes to an end, an assessment of progress toward the $3.00/gge H2 target is needed.

Table 3.1.2.—Technical Targets: Distributed Production of Hydrogen From Natural Gas ᵃ ᵇ
Characteristics | Units | Calendar year: 2003 ᶜ status | Calendar year: 2005 ᵈ target | Calendar year: 2010 ᵈ target
Total Hydrogen Cost | $/gge H2 | 5.00 | 3.00 | 2.50
(See http://www.eere.energy.gov/hydrogenandfuelcells/mypp/pdfs/production.pdf, page 3-10, for complete table and footnotes).

DOE has access to the results of R&D and demonstration projects in this technology area that it has funded to date, but additional information is requested from industry, academia, associations, and entities who are otherwise involved in aspects of distributed natural gas reforming. Position papers are limited to 10 pages maximum. A Cost Data Table is being assembled to help determine the current state of distributed natural gas reforming technologies. This table must be included in the position papers and/or presentations. The table can be downloaded from the DOE Hydrogen Program Web site at http://www.hydrogen.energy.gov/ docs/natural_gas_cost_sheet.xls. At a minimum, a submitter (position paper, presentation, or both) should provide this table filled out to the maximum extent possible. DOE recognizes that some submitters may not be able to complete all fields. For example, a company that develops only a subsystem/component of a reformer will only be able to address those table elements involved in that subsystem/component technology. Briefing materials should be forwarded to the NREL Systems Integrator for consideration as a presentation to the review panel. The review panel will meet during the February 15 through March 15 time frame to hear presentations that include data to support the presenter's position.

If confidential/proprietary information is provided in position papers or presentations, it must be clearly marked as such by the submitter. The independent review panel will be screened for conflicts of interest and each member will have completed confidentiality agreements to protect any information submitted. In addition, all materials will be returned to the submitter when the assessment is complete. The final assessment by the panel will be publicly available and will not contain any information which is identified by a submitter as confidential or proprietary.

For more information about the DOE Hydrogen Program and related hydrogen production activities visit the program's Web site at http://www.hydrogen.energy.gov.

Issued in Golden, CO on January 3, 2005.
Andrea K. Lucero,
Acting Procurement Director, Golden Field Office.

[FR Doc. 06-265 Filed 1-11-06; 8:45 am]

BILLING CODE 6450-01-P